DEPARTMENT OF COMMERCE

National Oceanic and Atmospheric Administration

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: West Coast Limited Entry Groundfish Fixed Gear Economic Data Collection.

OMB Control Number: 0648-xxxx.

Form Number(s): None.

Type of Request: Regular (request for a new information collection).

Number of Respondents: 320.

Average Hours per Response: Initial telephone screen, 2 minutes; follow-up detailed survey, 22 minutes.

Burden Hours: 64.

Needs and Uses: This is a request for a new information collection.

The Northwest Fisheries Science Center is conducting a cost and earnings survey of active vessels operating with a limited entry groundfish permit that has a fixed gear (longline and/or pot) endorsement. Commercial fisheries economic data collections implemented by the Northwest Fisheries Science Center (NWFSC) have contributed to legally mandated analyses required under the Magnuson-Stevens Fishery Conservation and Management Act (MFCMS), the National Environmental Policy Act (NEPA), the Regulatory Flexibility Act (RFA), and Executive Order 12866 (E.O. 12866).

Surveys implemented by the NWFSC since 2005 have covered West Coast harvesters, processors, and coastal communities. These surveys have focused on the federally managed groundfish and salmon fisheries as well as the closely related crab and shrimp fisheries. This document describes a data collection covering catcher vessels operate with a limited entry groundfish permit that has a fixed gear (longline and/or pot) endorsement. During 2012 there were 169 vessels active on the West Coast that held a federal groundfish limited entry permit with a fixed gear endorsement. These 169 vessels landed $46.5 million of fish on the West Coast, including $25.3 million of groundfish (including $22.5 million of sablefish) and $16.6 million of crab.

Affected Public: Business or other for-profit organizations.

Frequency: On occasion.

Respondent's Obligation: Voluntary.

This information collection request may be viewed at reginfo.gov. Follow the instructions to view Department of Commerce collections currently under review by OMB.

Written comments and recommendations for the proposed information collection should be sent within 30 days of publication of this notice to OIRA_Submission@omb.eop.gov or fax to (202) 395-5806.

Dated: June 22, 2018.
Sarah Brabson,
NOAA PRA Clearance Officer.

[FR Doc. 2018-13809 Filed 6-26-18; 8:45 am]

BILLING CODE 3510-22-P